DEPARTMENT OF TRANSPORTATION

Office of the Secretary

Notice of Applications for Certificates of Public Convenience and Necessity and Foreign Air Carrier Permits Filed Under Subpart B (Formerly Subpart Q) During the Week Ending November 30, 2001

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-11058.

Date Filed: November 27, 2001.

Due Date for Answers, Conforming Applications, or Motion to Modify Scope: December 18, 2001.

Description:

Application of Challenge Air Luftverkehrs GmbH, pursuant to 49 U.S.C. section 41302, subpart B, and part 211, requesting a foreign air carrier permit to provide charter foreign air transportation of passengers (and their accompanying baggage) and cargo, as follows: (1) Between any point or points in Germany and any point or points in the United States; (2) between any point or points in the United States and any point or points in a Third country or countries, provided that, except with respect to cargo charters, such service constitutes a part of a continuous operation, with or without a change of aircraft, that includes service to Germany for the purpose of carrying local traffic between Germany and the United States; and, (3) on other charter flights between points in the United States and points in third countries in accordance with the provisions of part 212.

Docket Number: OST-2001-11079.

Date Filed: November 30, 2001.

Due Date for Answers, Conforming Applications, or Motion to Modify Scope: December 21, 2001.

Description:

Application of Northwest Airlines, Inc., pursuant to 49 U.S.C. sections 41108 and 41102 and subpart B, requesting issuance of a Certificate of Public Convenience and Necessity to engage in scheduled foreign air transportation of persons, property and mail between a point or points in the United States via intermediate points to a point or points in Portugal and beyond.

Dorothy Y. Beard,
Federal Register Liaison.

[FR Doc. 01-31394 Filed 12-19-01; 8:45 am]

BILLING CODE 4910-62-P